DEPARTMENT OF ENERGY

Federal Energy Regulatory Commission

[Docket No. CP20-3-000]

Columbia Gas of Maryland, Inc.; Notice of Application

Take notice that on October 11, 2019, Columbia Gas of Maryland, Inc. (CMD), 121 Champion Way, Suite 100, Canonsburg, Pennsylvania 15317, filed in Docket No. CP20-3-000 an application pursuant to section 7(f) of the Natural Gas Act (NGA) requesting a service area determination so that it may expand or enlarge its facilities without further Commission authorization at a small location on the Pennsylvania/Maryland border, all as more fully set forth in the application which is on file with the Commission and open to public inspection.

The filing is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

Any questions concerning this application may be directed to Meagan Moore, Senior Counsel, or Kenneth W. Christman, Assistant General Counsel, Columbia Gas of Maryland, Inc., 121 Champion Way, Suite 100, Canonsburg, Pennsylvania 15317 by telephone at (724) 416-6347 (Moore) or (724) 416-6315 (Christman); or by email at mbmoore@nisource.com (Moore) or kchrist@nisource.com (Christman).

CMD is a local gas distribution company providing natural gas service to customers in northwestern Maryland that is regulated by the Maryland Public Service Commission. Specifically, CMD plans to acquire a regulator set at the Mt. Savage Point of Delivery (POD), located in Somerset County, Pennsylvania, and associated downstream distribution pipeline, which CMD currently accepts gas supplies from at the Pennsylvania/Maryland border. CMD is seeking a service area determination to operate the approximately 60 feet of pipeline in Pennsylvania from the Mt. Savage POD to a point along the Maryland border where the existing piping downstream of the POD connects with CMD's distribution piping in Allegany County, Maryland. CMD states it does not now or in the future intend to serve customers in Pennsylvania. CMD also requests that the Commission determine that CMD qualifies as a local distribution company for the purposes of transportation under section 311 of the Natural Gas Policy Act of 1978 and that it be granted waiver of all reporting and accounting requirements, as well as other rules and regulations that are normally applicable to natural gas companies subject to the Commission's jurisdiction.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made in the proceeding with the Commission and must provide a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the “eFiling” link at http://www.ferc.gov. Persons unable to file electronically should submit an original and 3 copies of the protest or intervention to the Federal Energy Regulatory Commission, 888 First Street NE, Washington, DC 20426.

Comment Date: 5:00 p.m. Eastern Time on November 18, 2019.

Dated: October 28, 2019.
Kimberly D. Bose,
Secretary.

[FR Doc. 2019-23981 Filed 11-1-19; 8:45 am]

BILLING CODE 6717-01-P